DEPARTMENT OF HEALTH AND HUMAN SERVICES

Centers for Disease Control and Prevention

[30 DAY-27-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. Importation of Etiologic Agents and Packaging and Handling Infectious Substances and Select Agents—(0920-0199)—Extension—Interstate shipment of etiologic agents are regulated by 42 CFR Part 7. This rule establishes minimal packaging requirements for all viable microorganisms, illustrates the appropriate shipping label, and provides reporting instructions regarding damages packages and failure to receive a shipment. In recent years the threat of illegitimate use of infectious agents has attracted increasing interest from the perspective of public health. The Centers for Disease Control and Prevention (CDC) is concerned about the possibility that the interstate transportation of certain infectious agents could have adverse consequences for human health and safety. CDC has already requested that all those entities that ship dangerous human infectious agents exercise increased vigilance prior to shipment to minimize the risk of illicit access to infectious agents. Of special concern are pathogens and toxins causing anthrax, botulism, brucellosis, plague, Q fever, tularemia, and all agents classified for work at Biosafety Level 4. This information collection ensures that selected infectious agents are not shipped to parties ill-equipped to handle them appropriately, or who do not have legitimate reasons to use them and to implement a system whereby scientists and researchers involved in legitimate research may continue transferring and receiving these agents without undue burdens. Respondents include laboratory facilities such as those operated by government agencies, universities, research institutions, and commercial entities. This request is for the information collection requirements contained in 42 CFR 71.54, 72.3(e) and 72.4 relating to the importation and shipment of etiologic agents. Total annual hours burden are 1,925.

CFR Section
CFR Section | No. of respondents | No. of responses/ respondent | Avg. burden/ response (in hrs.)
Application for Permit | 2,000 | 1 | 20/60
72.3(e) | 50 | 1 | 6/60
72.3(f) | 200 | 10 | 12/60
72.4 | 20 | 1 | 12/60
72.6(a) | 100 | 1 | 210/60
72.6(d) | 300 | 2 | 30/60
72.6(e) | 300 | 2 | 10/60
72.6(f) | 300 | 2 | 10/60

Dated: April 26, 2000.
Charles W. Gollmar,
Acting Associate Director for Policy, Planning, and Evaluation, Centers for Disease Control and Prevention (CDC).

[FR Doc. 00-10979 Filed 5-2-00; 8:45 am]

BILLING CODE 4163-18-P